DEPARTMENT OF HEALTH AND HUMAN SERVICES

Centers for Medicare and Medicaid Services

[Document Identifier: CMS-10091]

Emergency Clearance: Public Information Collection Requirements Submitted to the Office of Management and Budget (OMB)

AGENCY: Centers for Medicare and Medicaid Services, HHS.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR part 1320. We feel emergency approval is needed to possibly reduce the risk of public harm on beneficiaries by providing them the proper tools needed to get current information with regards to finding a Medicare participating physician who is accepting new patients.

CMS is requesting OMB review and approval of this collection by August 8, 2003, with a 180-day approval period. Written comments and recommendations will be accepted from the public if received by the individuals designated below by July 31, 2003. During this 180-day period, we will publish a separate Federal Register notice announcing the initiation of an extensive 60-day agency review and public comment period on these requirements. We will submit the requirements for OMB review and an extension of this emergency approval.

Type of Information Collection Request: New Collection; Title of Information Collection: UPIN (UPIN Physician Identification Number) Participating Directory/Accepting New Patients Indicator; Form No.: CMS-10091 (OMB# 0938-NEW); Use: In November of 2000, CMS launched the Participating Physicians Directory on http//www.medicare.gov. This particular directory was created to provide beneficiaries with the names, addresses, and specialties of Medicare participating physicians who have agreed to accept assignment on all Medicare claims and covered services. CMS is adding information from already existing sources; in addition, CMS wants to collect a new data element “Accepting New Patients Indicator” which is essential to a beneficiary's search for a physician. Frequency: On occasion; Affected Public: Business or other for-profit; Number of Respondents: 109,800; Total Annual Responses: 10,980; Total Annual Hours: 915.

We have submitted a copy of this notice to OMB for its review of these information collections. A notice will be published in the Federal Register when approval is obtained.

To obtain copies of the supporting statement and any related forms for the proposed paperwork collections referenced above, access CMS's Web site address at http://cms.hhs.gov/regulations/pra/default.asp, or E-mail your request, including your address, phone number, OMB number, and CMS document identifier, to Paperwork@cms.hhs.gov, or call the Reports Clearance Office on (410) 786-1326.

Interested persons are invited to send comments regarding the burden or any other aspect of these collections of information requirements. However, as noted above, comments on these information collection and recordkeeping requirements must be mailed and/or faxed to the designees referenced below, by July 31, 2003: Centers for Medicare and Medicaid Services, Office of Strategic Operations and Regulatory Affairs, Room C5-14-03, 7500 Security Boulevard, Baltimore, MD 21244-1850. Fax Number: (410) 786-0262, Attn: Melissa Musotto CMS 10091; and, Office of Information and Regulatory Affairs, Office of Management and Budget, Room 10235, New Executive Office Building, Washington, DC 20503, Fax Number: (202) 395-6974 or (202) 395-5167, Attn: Brenda Aguilar, CMS Desk Officer.

Dated: July 10, 2003.
Julie Brown,
Acting, Paperwork Reduction Act Team Leader, CMS Reports Clearance Officer, Office of Strategic Operations and Regulatory Affairs, Division of Regulations Development and Issuances.

[FR Doc. 03-18529 Filed 7-21-03; 8:45 am]

BILLING CODE 4120-03-P